NATIONAL CREDIT UNION ADMINISTRATION

Sunshine Act Meeting; Notice of Matter To Be Deleted from the Agenda of a Previously Announced Agency Meeting

FEDERAL REGISTER CITATION OF PREVIOUS ANNOUNCEMENT: July 22, 2013 (78 FR 43941).

TIME AND DATE: 10:00 a.m., Thursday, July 25, 2013.

PLACE: Board Room, 7th Floor, Room 7047, 1775 Duke Street (All visitors must use Diagonal Road Entrance), Alexandria, VA 22314-3428.

STATUS: Open.

Pursuant to the provisions of the “Government in Sunshine Act” notice is hereby given that the NCUA Board gave notice on July 22, 2013 (78 FR 43941) of the regular meeting of the NCUA Board scheduled for July 25, 2013. Prior to the meeting, on July 25, 2013, the NCUA Board unanimously determined that agency business required the deletion of the second item on the agenda with less than seven days' notice to the public, and that no earlier notice of the deletion was possible.

MATTER TO BE DELETED: 2. Board Briefing—Interagency Proposal, Joint Diversity Standards for Regulated Entities.

FOR FURTHER INFORMATION CONTACT: Gerard Poliquin, Secretary of the Board, Telephone: 703-518-6564

Gerard Poliquin,
Secretary of the Board.

[FR Doc. 2013-18416 Filed 7-26-13; 4:15 pm]

BILLING CODE 7535-01-P